DEPARTMENT OF ENERGY

Environmental Management Site-Specific Advisory Board, Savannah River Site; Meeting

AGENCY: Office of Environmental Management, Department of Energy.

ACTION: Notice of open virtual meeting.

SUMMARY: This notice announces an online virtual meeting of the Environmental Management Site-Specific Advisory Board (EM SSAB), Savannah River Site. The Federal Advisory Committee Act requires that public notice of this online virtual meeting be announced in the Federal Register.

DATES: Monday, June 28, 2021; 1:00 p.m.-3:00 p.m.

ADDRESSES:

Online Virtual Meeting: To attend, please send an email to: srscitizensadvisoryboard@srs.gov by no later than 4:00 p.m. ET on Friday, June 25, 2021.

To Submit Public Comments: Public comments will be accepted via email prior to and after the meeting. Comments received by no later than 4:00 p.m. ET on Friday, June 25, 2021 will be read aloud during the virtual meeting. Comments will also be accepted after the meeting, by no later than 4:00 p.m. ET on Monday, July 5, 2021. Please submit comments to srscitizensadvisoryboard@srs.gov.

FOR FURTHER INFORMATION CONTACT: Amy Boyette, Office of External Affairs, U.S. Department of Energy, Savannah River Operations Office, P.O. Box A, Aiken, SC 29802; Phone: (803) 952-6120; email: srscitizensadvisoryboard@gmail.com.

SUPPLEMENTARY INFORMATION: Purpose of the Board: The purpose of the Board is to make recommendations to DOE-EM and site management in the areas of environmental restoration, waste management, and related activities.

Tentative Agenda

—Chair Update

—Deputy Designated Federal Officer Update

—Board Discussion on Draft Recommendation, Revise the Member Appointment Process

—Reading of Public Comments

—Voting: Draft Recommendation, Revise the Member Appointment Process

Public Participation: The online virtual meeting is open to the public. Written statements may be filed with the Board either before or after the meeting as there will not be opportunities for live public comment during this online virtual meeting. The Deputy Designated Federal Officer is empowered to conduct the meeting in a fashion that will facilitate the orderly conduct of business. Individuals wishing to submit public comments should email them as directed above.

Minutes: Minutes will be available by writing or calling Amy Boyette at the address or telephone number listed above. Minutes will also be available at the following website: https://cab.srs.gov/srs-cab.html.

Signed in Washington, DC, on May 27, 2021.
LaTanya Butler,
Deputy Committee Management Officer.

[FR Doc. 2021-11601 Filed 6-2-21; 8:45 am]

BILLING CODE 6450-01-P